DEPARTMENT OF TRANSPORTATION

National Highway Traffic Safety Administration

[Docket No. DOT-NHTSA-2017-0087]

Reports, Forms, and Record Keeping Requirements

AGENCY: National Highway Traffic Safety Administration (NHTSA), Department of Transportation.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on November 2, 2017. Two comments were received. The content of neither comment related to the proposed data collection.

DATES: Comments must be submitted on or before April 9, 2018.

ADDRESSES: Send comments regarding the burden estimate, including suggestions for reducing the burden, to the Office of Management and Budget, Attention: Desk Officer for the Office of the Secretary of Transportation, 725 17th Street NW, Washington, DC 20503.

FOR FURTHER INFORMATION CONTACT: Ms. Laurie Flaherty, Coordinator, National 911 Program, Office of Emergency Medical Services, National Highway Traffic Safety Administration, U.S. Department of Transportation, 1200 New Jersey Avenue SE, NPD-400, Room W44-322, Washington, DC 20590, (202) 366-2705. Please identify the relevant collection of information by referring to its OMB Control Number.

SUPPLEMENTARY INFORMATION:

Title: Medical Directors Workforce Assessment.

OMB Control Number: U.S. DOT Docket No. NHTSA-2017-0087.

Type of Request: New information collection.

Abstract: With over 50,000 separate Emergency Medical Services (EMS) agencies and fire departments providing care to millions of patients each year, a clear description of the training and backgrounds of those who provide medical direction of EMS services in the U.S. is surprisingly not available. An estimated 8,500 medical directors serve 20,000 EMS agencies and 30,000 fire departments across the country.

Public Safety Answering Points that answer 911 calls and provide emergency medical dispatch, aeromedical services, mass gathering events such as marathons and concerts, and police departments and their special operations teams also require medical directors if their personnel provide emergency care or instruction. Despite a growing number of trained and now boarded certified EMS physicians, prehospital medical direction faces several obstacles and unknowns. Currently data is difficult to identify, but many medical directors are thought to be from several specialties such as family practice, internal medicine, and surgery and have little or no EMS experience. In addition, individuals serving as EMS directors have varying degrees of involvement with their services. Medical directors' compensation, legal protections, involvement in research, and education are also largely unknown.

Knowing more about the population of EMS medical directors in the United States would create several benefits. Defining this groups' demographics, qualifications, number, types and sizes of agencies served, and their financial compensation and legal protections is critical to determining trends of employment, identifying professional and training needs, recognizing barriers for medical directors, and directing policy and advocacy efforts. Collecting this data is essential for improving EMS medical direction across the nation and the National Highway Safety Administration (NHTSA) and other federal departments would benefit from understanding its prehospital medical leadership from a national preparedness perspective.

The goal of the Medical Directors Workforce Assessment is to investigate and define key attributes of EMS and 911 medical directors across the United States in order to create a national picture of prehospital medical direction. The data will be used to establish an Emergency Medical Services Medical Director Workforce Assessment (EMSMDWA), which can guide future policy and investment in activities to support the improvement of prehospital medical direction.

Affected Public: Under this proposed effort, the respondents would voluntarily submit data described above utilizing a web-based data collection tool. Reporting entities are EMS and 911 Medical Directors of state and local EMS and 911 systems. The total maximum number of respondents is estimated 350.

Estimated Number of Respondents: Under this proposed effort, several forums and organizations known for medical director involvement will be targeted by the Office of EMS, to respond to an online survey being developed by the National Association of EMS Physicians, under the terms of a cooperative agreement (DTNH22-16-H-00007). The total number of respondents is estimated at 350. This is a one-time survey and no annual or second survey is planned at this time.

Estimated Total Annual Burden Hours: NHTSA estimates that the time required to submit the data described utilizing the web-based tool will be one hour (no advance preparation, one hour of entry to website) per reporting entity, for a total of 350 hours for all entities. The respondents would not incur any reporting costs from the information collection beyond the time it takes to populate the web-based data collection tool. The respondents also would not incur any recordkeeping burden or recordkeeping costs from the information collection.

The total estimated costs to respondents or record-keepers are based on the following: The total hour burden of the collection of information equaling 350 hours.

Respondents will be EMS and 911 Medical Directors at of State, local, territorial, and tribal EMS and 911 systems. To estimate reasonable staff expenses to respond to this information collection, the Agencies reviewed the Bureau of Labor Statistics (BLS) Occupational Outlook Handbook and determined that the Physicians and Surgeons description closely aligns with the positions of personnel responsible for completing this request. BLS lists a median salary of $208,000 per year amounting to $100.00 per hour. There are no capital, start-up, or annual operation and maintenance costs involved in the collection of information.

Total cost based on hour's burden equals $35,000.00.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: 44 U.S.C. Section 3506(c)(2)(A).

Issued in Washington, DC, on March 6, 2018.
Jeff Michael,
Associate Administrator, Research and Program Development.

[FR Doc. 2018-04749 Filed 3-8-18; 8:45 am]

BILLING CODE 4910-59-P